SMALL BUSINESS ADMINISTRATION

Data Collection Available for Public Comments

ACTION: 60-day notice and request for comments.

SUMMARY: The Small Business Administration (SBA) intends to request approval, from the Office of Management and Budget (OMB) for the collection of information described below. The Paperwork Reduction Act (PRA) of 1995, requires federal agencies to publish a notice in the Federal Register concerning each proposed collection of information before submission to OMB, and to allow 60 days for public comment in response to the notice. This notice complies with that requirement.

DATES: Submit comments on or before April 28, 2017.

ADDRESSES: Send all comments to Mary Frias, Loan Specialist, Office of Financial Assistance, Small Business Administration, 409 3rd Street SW., Washington, DC 20416.

FOR FURTHER INFORMATION CONTACT: Mary Frias, Loan Specialist, Office of Financial Assistance, mary.frias@sba.gov, 202-401-8234, or Curtis B. Rich, Management Analyst, 202-205-7030, curtis.rich@sba.gov;

SUPPLEMENTARY INFORMATION: Small Business Administration (SBA) has established a loan program, the immediate Disaster Assistance Program, (IDAP) to assist small businesses affected by a federally declared disaster or economic disaster. The program will provide guaranteed loan through 7(a) lenders participating in IDAP to cover the short time frame between the data of the disaster damage and a small business. This requested information, which will be provided by the affected small businesses and IDAP participating lenders, will be used to determine eligibility for an IDAP loan and participation in the program.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

Title: Immediate Disaster Assistance Loan Program Application and Eligibility Data.

Description of Respondents: IDAP participating lenders.

Form Number: SBA Forms 2410, 2411, 2412.

Total Estimated Annual Responses: 984.

Total Estimated Annual Hour Burden: 543.

Curtis B. Rich,
Management Analyst .

[FR Doc. 2017-03760 Filed 2-24-17; 8:45 am]

BILLING CODE 8025-01-P